POSTAL SERVICE

39 CFR Part 20

International Product Changes

AGENCY: Postal Service™.

ACTION: Final rule.

SUMMARY: The Postal Service is revising Mailing Standards of the United States Postal Service, International Mail Manual (IMM®), to reflect classification changes to Competitive Services, as established by the Governors of the Postal Service.

DATES: Effective date: September 7, 2014.

FOR FURTHER INFORMATION CONTACT: Paula Rabkin at 202-268-2537.

SUPPLEMENTARY INFORMATION: New classification changes are available under Docket Number MC2014-30 on the Postal Regulatory Commission's Web site at http://www.prc.gov.

This final rule describes the international classification changes and the corresponding mailing standards changes for the following Competitive Services:

Priority Mail Express International

Priority Mail Express International service provides fast international delivery service to more than 180 countries. The price for Priority Mail Express International service is unchanged. The following classification change is made: Lebanon.

We are adding Lebanon as the most recent country to establish an Express Mail Service (EMS) operational exchange agreement with the Postal Service. As a result, Priority Mail Express International service will become available to this destination effective September 7, 2014, as described in the mailing standards below.

List of Subjects in 39 CFR Part 20

Foreign relations, International postal services.

The Postal Service hereby adopts the following changes to Mailing Standards of the United States Postal Service, International Mail Manual (IMM), which is incorporated by reference in the Code of Federal Regulations. See 39 CFR 20.1. Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

Country Price Groups and Weight Limits

[Revise the listing for Lebanon, adding PMEI service, to read as follows:]

Country | Global express guaranteed: Price group | Global express guaranteed: Max. wt. (lbs.) | Priority mail express international: Price group | Priority mail express international: Max. wt. (lbs.) | Priority mail international: Price group | Priority mail international: Max. wt. (lbs.) | First-class mail international and first-class package international service: Price group | First-class mail international and first-class package international service: Max. wt. (ozs./lbs.)
* * * * * * *
Lebanon | 6 | 70 | 8 | 66 | 8 | 66 | 8 | 3.5/4
* * * * * * *

* * * * *

Individual Country Listings

* * * * *

Lebanon

Country Conditions for Mailing

* * * * *

[Revise the listing for Priority Mail Express International to read as follows:]

Priority Mail Express International (220) Price Group 8

Refer to Notice 123, Price List, for the applicable retail, Commercial Base, or Commercial Plus price.
Weight Limit: 66 pounds

Priority Mail Express International—Flat Rate Envelopes and Flat Rate Boxes

Flat Rate Envelopes: The maximum weight is 4 pounds.

Flat Rate Boxes: The maximum weight is 20 pounds.

Refer to Notice 123, Price List, for the applicable retail, Commercial Base, or Commercial Plus price.

Size Limits (221.52)

Maximum length: 60 inches

Maximum length and girth combined: 108 inches

Insurance (222.8)

Available for Priority Mail Express International merchandise shipments only

Insured amount not over | Fee | Insured amount not over | Fee
$200 500 | ⁽¹⁾ $2.35 | For insurance coverage above $2,000, add $1.50 for each $500 or fraction thereof, up to a maximum of $5,000 per shipment.
1,000 | 3.85 |
1,500 | 5.35 |
2,000 | 6.85 | $5,000 max | $15.85
¹ No Fee.

Customs Forms Required (123)

Articles admitted | Required customs form/endorsement
Documents, correspondence, and business papers | PS Form 2976. Endorse item clearly next to mailing label as BUSINESS PAPERS.
Merchandise samples without commercial value | PS Form 2976.
Merchandise and all articles subject to customs duty | PS Form 2976-A inside PS Form 2976-E (envelope).

Note: For mailers completing PS Form 2976-B or an online combined shipping label and customs form that electronically transmits customs-related data, no additional customs form is required (see 222.5).

Notes

1. Commercial invoice required in addition to customs forms listed in 123.

2. Coins; banknotes; currency notes, including paper money; securities of any kind payable to bearer; traveler's checks; platinum, gold, and silver; precious stones; jewelry; watches; and other valuable articles are prohibited in Priority Mail Express International shipments to Lebanon.

Reciprocal Service Name: EMS LibanPost

Country Code: LB

Areas Served: All

* * * * *

We will publish an appropriate amendment to 39 CFR part 20 to reflect these changes.

Stanley F. Mires,
Attorney, Federal Requirements.

[FR Doc. 2014-17136 Filed 7-21-14; 8:45 am]

BILLING CODE 7710-P